DEPARTMENT OF COMMERCE

International Trade Administration

[A-821-808]

Certain Cut-to-Length Carbon Steel Plate From the Russian Federation; 2012; Preliminary Results of Administrative Review of Antidumping Duty Suspension Agreement

AGENCY: Import Administration, International Trade Administration, Department of Commerce.

DATES: Effective Date: October 3, 2013.

SUMMARY: The Department of Commerce (the Department) preliminarily determines that Joint Stock Company Severstal (Severstal) is in compliance with the Agreement Suspending the Antidumping Investigation of Certain Cut-to-Length Carbon Steel Plate from the Russian Federation (Agreement) for the period January 1, 2012 through December 31, 2012, and that the Agreement is functioning as intended. The preliminary results are set forth in the section titled “Methodology and Preliminary Results,” infra. We intend to issue the final results within 120 days after publication of these preliminary results in the Federal Register.

FOR FURTHER INFORMATION CONTACT: Sally C. Gannon or Anne D'Alauro, Import Administration, International Trade Administration, U.S. Department of Commerce, 14th Street and Constitution Avenue NW., Washington, DC 20230, telephone: (202) 482-0162 or (202) 482-4830.

SUPPLEMENTARY INFORMATION:

Scope of Review

The products covered by the Agreement are certain cut-to-length carbon steel plate from the Russian Federation. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Although the HTS subheadings are provided for convenience and customs purposes, our written description of the scope of this Agreement is dispositive.

A full description of the scope of the order is contained in “Decision Memorandum for Preliminary Results of Administrative Review of the Agreement Suspending the Antidumping Investigation of Certain Cut-to-Length Carbon Steel Plate from the Russian Federation” from Lynn Fischer Fox, Deputy Assistant Secretary of Policy and Negotiations to Ronald K. Lorentzen, Deputy Assistant Secretary for Import Administration (Preliminary Decision Memorandum), dated September 27, 2013, and hereby adopted by this notice. The Preliminary Decision Memorandum is a public document and is made available to the public via Import Administration's Antidumping and Countervailing Duty Centralized Electronic Service System (IA ACCESS). IA ACCESS is available to registered users at https://iaaccess.trade.gov and in the Department's Central Records Unit, located in Room 7046 of the main Department of Commerce building. In addition, a complete version of the Preliminary Decision Memorandum can be found on the Internet at http://www.trade.gov/ia. The signed Preliminary Decision Memorandum and the electronic version of the Preliminary Decision Memorandum are identical in content.

Methodology and Preliminary Results

On December 20, 2002, the Department signed an agreement under section 734(b) of the Tariff Act of 1930, as amended (the Act), with Russian steel producers/exporters, including Severstal, which suspended the antidumping duty investigation on certain cut-to-length carbon steel plate (CTL plate) from the Russian Federation. See Suspension of Antidumping Duty Investigation of Certain Cut-to-Length Carbon Steel Plate from the Russian Federation, 68 FR 3859 (January 27, 2003). On January 31, 2013, Nucor submitted a request for an administrative review of the Agreement pursuant to Antidumping or Countervailing Duty Order, Finding, or Suspended Investigation; Opportunity to Request Administrative Review, 78 FR 288 (January 3, 2013). The review was initiated on February 28, 2013, for the January 1, 2012 through December 31, 2012 period of review. See Initiation of Antidumping and Countervailing Duty Administrative Reviews and Request for Revocation in Part, 78 FR 13631 (February 28, 2013). The Department examined U.S. Customs and Border Protection (CBP) import data for the 2012 calendar year and determined that CTL plate produced by Severstal accounted for substantially all (not less than 85 percent) of the subject merchandise imported into the United States during the January 1, 2012 through December 31, 2012 period of review. See Memo to the file from Anne D'Alauro dated September 27, 2013, with attached summary of CBP import data for 2012. On March 14, 2013, and May 31, 2013, the Department issued its questionnaire and supplemental questionnaire, respectively, to Severstal. Severstal submitted its responses on April 23, 2013, and June 27, 2013, respectively.

The Department has conducted this review in accordance with section 751(a)(1)(C) of the Act, which specifies that the Department shall “review the current status of, and compliance with, any agreement by reason of which an investigation was suspended.” In this case, the Department and Severstal signed the Agreement, suspending the underlying antidumping duty investigation, on December 20, 2002. Pursuant to the Agreement, each signatory producer/exporter individually agrees to make any necessary price revisions to eliminate completely any amount by which the normal value (NV) of the subject merchandise exceeds the U.S. price of its merchandise subject to the Agreement. See Agreement, 68 FR at 3860-61. Our review of the information submitted by Severstal indicates that the company has adhered to the terms of the Agreement and that the Agreement is functioning as intended. For a full description of the methodology underlying our conclusions, see the Preliminary Decision Memorandum.

Public Comment

Pursuant to 19 CFR 351.309(c)(1)(ii), interested parties may submit case briefs not later than 30 days after the date of publication of this notice. Rebuttal briefs, limited to issues raised in the case briefs, may be filed not later than five days after the date for filing case briefs in accordance with 19 CFR 351.309(d)(1). Parties who submit case briefs or rebuttal briefs in this proceeding are encouraged to provide: (1) A statement of the issue; (2) a brief summary of the argument; and (3) a table of authorities. See 19 CFR 351.309(c)(2) and (d)(2).

Pursuant to 19 CFR 351.310(c), interested parties who wish to request a hearing, or to participate if one is requested, must submit a written request to the Assistant Secretary for Import Administration, filed electronically via IA ACCESS. An electronically filed document must be received successfully in its entirety by the Department's electronic records system, IA ACCESS, by 5:00 p.m. Eastern Standard Time within 30 days after the date of publication of this notice. Requests should contain: (1) The party's name, address and telephone number; (2) the number of participants; and (3) a list of issues to be discussed. Issues raised in the hearing will be limited to those raised in the respective case briefs. The Department intends to issue the final results of this administrative review, including the results of its analysis of the issues raised in any written briefs, not later than 120 days after the date of publication of this notice, pursuant to section 751(a)(3)(A) of the Act.

We are issuing and publishing these results in accordance with sections 751(a)(1) and 777(i)(1) of the Act.

Dated: September 27, 2013.
Ronald K. Lorentzen,
Deputy Assistant Secretary for Import Administration.

[FR Doc. 2013-24279 Filed 10-2-13; 8:45 am]

BILLING CODE 3510-DS-P